ENVIRONMENTAL PROTECTION AGENCY

[FRL-13159-01-OA]

Request for Nominations of Candidates to the National Environmental Education Advisory Council

AGENCY: Environmental Protection Agency (EPA).

ACTION: Notice request for nominations.

SUMMARY: The U.S. Environmental Protection Agency (EPA) invites nominations of environmental education professionals from a range of qualified candidates to be considered for appointment to the National Environmental Education Advisory Council (NEEAC). Appointments will be announced by the EPA Administrator.

DATES: Nominations should be submitted no later than March 16, 2026

FOR FURTHER INFORMATION CONTACT: For information about the chartered NEEAC membership, appointment process, and schedule, please contact Carissa Cyran, Designated Federal Officer (DFO) by email at neeac@epa.gov or telephone at 202-566-1353.

SUPPLEMENTARY INFORMATION:

Background: The National Environmental Education Act (Act) requires that the NEEAC be comprised of eleven (11) members appointed by the Administrator of the EPA. Members represent a balance of perspectives, professional qualifications, and experience. The Act specifies that members must represent the following sectors: primary and secondary education (one of whom shall be a classroom teacher), two members; colleges and universities, two members; business and industry, two members; non-profit organizations, two members; state departments of education and natural resources, two members; and one member to represent senior Americans.

The EPA is looking for background and experience that would contribute to the diversity of professional perspectives on the NEEAC with a balanced geographic representation from across the Nation. While not necessary, it may be beneficial for Council members to possess expertise using environmental education to promote the responsible stewardship of natural resources and collaborative public and private conservation efforts that support outdoor recreation, and the management of America's wildlife population. Each member of the Council shall hold office for a three-year term as Special Government Employees who will provide independent expert advice to the agency. The anticipated time commitment may vary between 20 and 50 hours per month. Members will serve on the NEEAC in a voluntary capacity without compensation. However, members will be provided with per diem and travel expense coverage for in-person meeting attendance, contingent upon available funding. Additional information about the NEEAC is available at https://www.epa.gov/education/national-environmental-education-advisory-council-neeac.

Expertise Sought for the NEEAC: The NEEAC provides environmental education advice to the EPA Administrator on matters related to activities, functions, and policies of the agency under the National Environmental Education Act of 1990. EPA invites nominations of individuals to serve on the NEEAC with demonstrated experience or knowledge in environmental education.

While not required, certain supplemental skills and experiences will be considered valuable for these eleven (11) committee member positions, including: integrating environmental education into state and/or local education programs; building capacity for environmental education at the state, local, and/or Tribal jurisdictions; fostering cross-sector (public and private) partnerships to enhance environmental education and promote economic growth; leveraging resources to support these initiatives; designing and implementing environmental education research focused on protecting natural resources; developing robust evaluation methodologies; and providing professional development for teachers and other education professionals. Candidates with these skills will have the opportunity to share their knowledge and expertise.

How To Submit Nominations: Any interested person or organization may nominate qualified persons to be considered for appointment on the NEEAC. Individuals may self-nominate. Nominations will only be considered when submitted in electronic format to neeac@epa.gov.

All nominations must include the following information: (1) contact information including name, address, phone, and email address; (2) a curriculum vitae or resume (no more than five pages); (3) please include the specific area of expertise in environmental education and the sector represented (primary or secondary education (please identify if you are a classroom teacher); colleges or universities; business and industry; non-profit organizations; state departments of education; state department of natural resources; senior Americans) the applicant is applying for in the subject line of your submission; and, (4) one-page essay on the applicant's philosophy on the value that environmental education adds to expanding conservation practices and fostering economic growth through outdoor recreation and wildlife management.

Candidates invited to serve will be asked to submit the “Confidential Financial Disclosure Form for Special Government Employees Serving on Federal Advisory Committees at the U.S. Environmental Protection Agency” (EPA Form 3110-48). This confidential form allows EPA to determine whether there is a statutory conflict between that person's public responsibilities as a Special Government Employee and private interests and activities, or the appearance of a loss of impartiality, as defined by Federal regulation. The form may be viewed and downloaded through the “Ethics Requirements for Advisors” link at https://www.epa.gov/sap/confidential-financial-disclosure-form-environmental-protection-agency-special-government. This form should not be submitted as part of the nomination.

Authority: National Environmental Education Act (NEEA) 20 U.S.C. 5508(b).

Dated: January 27, 2026.
Carissa Cyran,
EPA Designated Federal Officer, National Environmental Education Advisory Council.

[FR Doc. 2026-02867 Filed 2-11-26; 8:45 am]

BILLING CODE 6560-50-P